DEPARTMENT OF COMMERCE

Foreign-Trade Zones Board

[Order No. 1958]

Grant of Authority; Establishment of a Foreign-Trade Zone Under the Alternative Site Framework, Cameron Parish, Louisiana

Pursuant to its authority under the Foreign-Trade Zones Act of June 18, 1934, as amended (19 U.S.C. 81a-81u), the Foreign-Trade Zones Board (the Board) adopts the following Order:

WHEREAS, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the Board adopted the alternative site framework (ASF) (15 CFR Sec. 400.2(c)) as an option for the establishment or reorganization of zones;

WHEREAS, the West Cameron Port Commission (the Grantee), a Louisiana political subdivision, has made application to the Board (B-23-2014, docketed 03/12/2014) requesting the establishment of a foreign-trade zone under the ASF with a service area that includes Wards 3, 4, 5 and 6 of Cameron Parish, Louisiana, adjacent to the Lake Charles Customs and Border Protection port of entry, and proposed Site 1 would be categorized as a usage-driven site;

WHEREAS, notice inviting public comment has been given in the Federal Register (79 FR 14666, 03/17/2014) and the application has been processed pursuant to the FTZ Act and the Board's regulations; and,

WHEREAS, the Board adopts the findings and recommendations of the examiner's report, and finds that the requirements of the FTZ Act and the Board's regulations are satisfied;

NOW, THEREFORE, the Board hereby grants to the Grantee the privilege of establishing a foreign-trade zone, designated on the records of the Board as Foreign-Trade Zone No. 291, as described in the application, and subject to the FTZ Act and the Board's regulations, including Section 400.13, to the Board's standard 2,000-acre activation limit, and to a three-year ASF sunset provision for usage-driven sites that would terminate authority for Site 1 if no foreign-status merchandise is admitted for a bona fide customs purpose within three years from the month of approval.

Signed at Washington, DC, this 5th day of January 2015.
Penny Pritzker,
Secretary of Commerce, Chairman and Executive Officer, Foreign-Trade Zones Board.
ATTEST:
Andrew McGilvray,
Executive Secretary.

[FR Doc. 2015-01236 Filed 1-22-15; 8:45 am]

BILLING CODE 3510-DS-P